SMALL BUSINESS ADMINISTRATION

Delegations of Authority

AGENCY: Small Business Administration.

ACTION: Notice of Delegations of Authority.

SUMMARY: This document provides the public notice of the delegations of authority for lender oversight and enforcement activities by the Administrator of the Small Business Administration (SBA) to the Associate Administrator for the Office of Lender Oversight, the Lender Oversight Committee, and the Associate Deputy Administrator for Capital Access.

FOR FURTHER INFORMATION CONTACT: Janet A. Tasker, Associate Administrator for the Office of Lender Oversight, or Diane K. Wright, Attorney Advisor, U.S. Small Business Administration, 409 3rd Street, SW., Washington, DC 20416, telephone numbers: (202) 205-3049 or (202) 205-6642, respectively; facsimile number: (202) 205-6846; and electronic mail: janet.tasker@sba.gov or diane.wright@sba.gov, respectively.

SUPPLEMENTARY INFORMATION: This publication provides the public notice of the Administrator's delegations of authority with respect to SBA's lender oversight and enforcement activities. It follows in time the Administrator's approval of designated responsibilities of SBA's Office of Lender Oversight. It also incorporates specific authorities enacted in Pub. L. 108-447, Division K (December 7, 2004) or promulgated in SBA regulations codified at 13 CFR part 120 or part 145. Delegation of Authority 12-G reads as follows:

Delegation of Authority No. 12-G.

I. The Administrator of the SBA, Hector V. Barreto, pursuant to the authority vested in him by the Small Business Act, 15 U.S.C. 631, as amended, and the Small Business Investment Act of 1958, 15 U.S.C. 661, as amended, hereby delegates the following authorities:

A. To the Associate Administrator for the Office of Lender Oversight (AA/OLO):

1. Lender Oversight Activities.

a. To direct and coordinate SBA's lender oversight activities.

b. To review, examine, monitor, and assess the risks to SBA loan programs of, SBA lenders [including but not limited to Small Business Lending Companies (SBLCs); non-Federally regulated lenders (as defined in Section 3(r)(2) of the Small Business Act); other 7(a) lenders; Certified Development Companies (CDCs); and intermediaries participating in SBA's Microloan Program (as defined in 13 CFR 120.701(e))] using a variety of oversight tools, including but not limited to: SBA's Loan and Lender Monitoring System (L/LMS); on-site reviews; off-site monitoring and evaluation; and lender ratings.

c. To set capital standards for SBLCs.

d. To assume responsibility for follow-up and day-to-day dealings with lenders with higher risk ratings of 4 or 5, other than servicing actions on individual loans (which will be reviewed by the Office of Financial Assistance (OFA)), including but not limited to approving delegations of program authority (for example new authority, renewal of authority, or expansion of authority in the Preferred Lender Program, Express Program, Premier Certified Lender Program or any other delegated program authority established in the future).

e. To head and direct the activities of the Bureau of PCLP Oversight.

f. To take all other actions relating to lender oversight activities that are not otherwise delegated to others pursuant to these Delegations of Authority.

2. Enforcement Actions.

a. To make recommendations to the Lender Oversight Committee relating to enforcement actions against lenders with higher risk ratings (ratings of 4 or 5).

b. To take enforcement actions against lenders with higher risk ratings (ratings of 4 or 5) as approved by the Lender Oversight Committee and, if necessary, as approved by the Administrator or his/her authorized delegatee, with the concurrence of the Office of General Counsel.

c. To take all other actions in connection with lender oversight enforcement for lenders with higher risk ratings (ratings of 4 or 5) that are not otherwise delegated to others pursuant to these Delegations of Authority.

d. To take other actions in connection with lender oversight enforcement as permitted by regulation.

3. Policy, Program, and Portfolio Analysis.

a. To provide the Office of Capital Access (OCA) and appropriate program management offices with independent policy, program and portfolio analysis for SBA's loan programs and portfolios.

b. To monitor changes in accounting, banking, and financial industries relative to small business lending, and recommend appropriate modification of SBA oversight and lending policies.

c. To conduct reviews of the guaranteed purchase review process, practices and decisions.

d. To provide L/LMS administration and support.

4. To serve as the debarring and suspending official for SBA's financial assistance programs in accordance with current regulations.

5. To take all other actions in connection with matters related to SBA's Lender Oversight Program and to do and perform and to assent to the doing and performance of, each and every act and thing requisite and proper to effectuate the powers granted herein.

B. To the Lender Oversight Committee:

1. To review reports on lender oversight activities.

2. To review enforcement action recommendations of the AA/OLO for lenders with higher risk ratings (ratings of 4 or 5), and

a. With respect to enforcement actions under Sections 23(b) (directive to increase capital for SBLC), 23(d) (revocation or suspension of loan authority of SBLC/non-Federally regulated lender), and 23(e) (cease and desist order issued to SBLC/non-Federally regulated lender) of the Small Business Act, to vote to recommend this or another action or to vote to not recommend action, to the Administrator or his/her authorized delegatee, and

b. With respect to all other enforcement actions, to vote to approve, disapprove, or modify the action.

3. To review OLO's budget, staffing, and operating plans.

4. To take such other actions and perform such other functions as may be formally adopted by SOP or otherwise.

C. To the Associate Deputy Administrator for Capital Access (ADA/CA):

1. In addition to the powers and authorities already delegated to the ADA/CA, to issue a directive to one or more SBLCs that he/she determines is being operated in an imprudent manner to increase capital to such level as he/she determines will result in the safe and sound operation of the SBLC, in accordance with SBA regulations.

II. The authorities delegated to the AA/OLO, except the authority to change assigned ratings, may be redelegated.

III. The authorities delegated to the AA/OLO may be exercised by any SBA employee officially designated as Acting in the position.

IV. The authority delegated herein to the ADA/CA may be exercised by any SBA employee officially designated as Acting in the position.

V. Other than the authority delegated to the Lender Oversight Committee in Paragraph I.B.2.b., the authorities delegated herein to the Lender Oversight Committee and the ADA/CA may not be redelegated. With regard to the Paragraph I.B.2.b., the Lender Oversight Committee may delegate authority to the AA/OLO to approve certain specified enforcement actions.

VI. The authorities delegated herein can only be revoked by the Administrator and in writing.

VII. All previous delegations that are contrary to these delegations are hereby revoked.

VIII. These delegations of authority may be amended from time to time.

Authority: 15 U.S.C. 634(b)(7); 15 U.S.C. 687(f); 15 U.S.C. 650; 15 U.S.C. 696(3)(A); 15 U.S.C. 697(a)(2); 15 U.S.C. 697e(c)(8); and Pub.L. 104-208, Division D, Title I, Section 103(h) (September 30, 1996).

Dated: April 19, 2005.
Hector V. Barreto,
Administrator.

[FR Doc. 05-8170 Filed 4-22-05; 8:45 am]

BILLING CODE 8025-01-P